DEPARTMENT OF STATE

[Public Notice 6400]

Fine Arts Committee Notice of Meeting

The Fine Arts Committee of the Department of State will meet on November 13, 2008 at 11 a.m. in the Henry Clay Room of the Harry S. Truman Building, 2201 C Street NW., Washington, DC. The meeting will last until approximately 12 p.m. and is open to the public.

The agenda for the committee meeting will include a summary of the work of the Fine Arts Office since its last meeting on April 25, 2008 and the announcement of gifts and loans of furnishings as well as financial contributions from January 1, 2008 through September 30, 2008.

Public access to the Department of State is strictly controlled and space is limited. Members of the public wishing to take part in the meeting should telephone the Fine Arts Office at (202) 647-1990 or send an e-mail to BurdenVK@State.gov by November 6 to make arrangements to enter the building. The public may take part in the discussion as long as time permits and at the discretion of the chairman.

Dated: October 7, 2008.
Marcee Craighill,
Secretary, Fine Arts Committee, Department of State.

[FR Doc. E8-24516 Filed 10-14-08; 8:45 am]

BILLING CODE 4710-35-P